DEPARTMENT OF EDUCATION

Office of Special Education and Rehabilitative Services, Rehabilitation Act of 1973, as Amended

ACTION: Notice of a public meeting.

SUMMARY: The Secretary announces plans to hold a public meeting to seek comments and suggestions about the Rehabilitation Services Administration's (RSA's) monitoring process.

DATES: The public meeting will be held from 9 a.m. to 5 p.m. Wednesday, August 24, 2005 and 9 a.m. to 4 p.m. Thursday, August 25, 2005 in Washington, DC.

ADDRESSES: The meeting will be held at the Renaissance Hotel, 999 Ninth St., NW, Washington, DC 20001.

FOR FURTHER INFORMATION CONTACT: David Esquith, Rehabilitation Services Administration, Office of Special Education and Rehabilitative Services, U.S. Department of Education, 400 Maryland Avenue, SW., room 5175, Potomac Center Plaza, Washington, DC 20202. Telephone: (202) 245-7336. If you use a telecommunications device for the deaf (TDD), you may call the Federal Relay Service (FRS) at 1-800-877-8339.

SUPPLEMENTARY INFORMATION:

Background

Section 107 of the Act requires the RSA Commissioner to conduct annual reviews and periodic on-site monitoring of programs authorized under Title I. According to the Act, the purpose of monitoring is determine compliance with the assurances made in the VR agency's State Plan as required under Section 101(a)(15), and with the Evaluation Standards and Performance Indicators established under Section 106.

RSA is in the process of restructuring. Under the new structure, monitoring activities will be carried out by the State Monitoring and Program Improvement Division (SMPID). This public meeting will be an opportunity for stakeholders in the vocational rehabilitation process to provide RSA with their input on the monitoring process that will be implemented by the SMPID.

Individuals who need accommodations for a disability in order to attend the meetings (i.e., interpreting services, assistive listening devices, or material in alternative formats) should notify the contact person listed under FOR FURTHER INFORMATION CONTACT. The meeting locations will be accessible to individuals with disabilities.

Electronic Access to this Document: You may view this document, as well as all other documents this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: July 20, 2005.
John H. Hager,
Assistant Secretary for Special Education and Rehabilitative Services.

[FR Doc. 05-14646 Filed 7-25-05; 8:45 am]

BILLING CODE 4000-01-P